DEPARTMENT OF HOMELAND SECURITY

Coast Guard

33 CFR Part 117

[USCG-2012-0909]

Drawbridge Operation Regulations; Long Island, New York Inland Waterway From East Rockaway Inlet to Shinnecock Canal, Hempstead, NY

AGENCY: Coast Guard, DHS.

ACTION: Notice of temporary deviation from regulations.

SUMMARY: The Commander, First Coast Guard District, has issued a temporary deviation from the regulation governing the operation of the Wantagh State Parkway Bridge across the Sloop Channel, mile 15.4, at Jones Beach, New York. The deviation is necessary to install bascule girders at the bridge. This deviation allows the bridge to remain in the closed position.

DATES: This deviation is effective from October 8, 2012 through November 16, 2012.

ADDRESSES: Documents mentioned in this preamble as being available in the docket are part of docket USCG-2012-0909 and are available online at www.regulations.gov, inserting USCG-2012-0909 in the “Keyword” and then clicking “Search”. They are also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or email Ms. Judy Leung-Yee, Project Officer, First Coast Guard District, judy.k.leung-yee@uscg.mil, telephone (212) 668-7165. If you have questions on viewing the docket, call Renee V. Wright, Program Manager, Docket Operations, telephone 202-366-9826.

SUPPLEMENTARY INFORMATION: The Wantagh State Parkway Bridge has a vertical clearance in the closed position of 20 feet at mean high water and 23 feet at mean low water. The existing drawbridge operation regulations are listed at 33 CFR 117.5.

The New York Department of Transportation requested a temporary deviation to facilitate installation and painting of bascule girders at the bridge.

The waterway has seasonal recreational vessels and fishing vessels of various sizes. We contacted the New York Marine Trades Association and no objections were received.

We did not receive 30-days advance notice for this temporary deviation; however, the Coast Guard is approving this temporary deviation because this girder installation and painting must be performed during mild climate conditions to facilitate the painting operations and allow the new bridge construction to continue on schedule. Additional notice to the public will be provided in the Local Notice to Mariners and via a broadcast notice to mariners.

Under this temporary deviation the Wantagh State Parkway Bridge at mile 15.4, across Sloop Channel, shall operate between October 8, 2012 and November 16, 2012, as follows:

Monday through Friday the bridge may remain closed to vessel traffic from 6:30 a.m. through 12 p.m. and from 12:15 p.m. through 5 p.m.

Saturday and Sunday the bridge shall open on signal between 7:30 a.m. and 8:30 p.m. after at least a thirty minute advance notice is given by calling the number posted at the bridge.

At all other times the bridge shall open on signal after at least a thirty minute advance notice is given by calling the number posted at the bridge.

Vessels that can pass under the bridge during the closed periods without a bridge opening may do so at all times. There are no alternate routes for vessel traffic.

In accordance with 33 CFR 117.35(e), the bridge must return to its regular operating schedule immediately at the end of the designated time period. This deviation from the operating regulations is authorized under 33 CFR 117.35.

Dated: October 5, 2012.
Gary Kassof,
Bridge Program Manager, First Coast Guard District.

[FR Doc. 2012-25542 Filed 10-17-12; 8:45 am]

BILLING CODE 9110-04-P